DEPARTMENT OF COMMERCE

National Oceanic and Atmospheric Administration

RIN 0648-XU78

Gulf of Mexico Fishery Management Council; Public Meeting

AGENCY: National Marine Fisheries Service (NMFS), National Oceanic and Atmospheric Administration (NOAA), Commerce.

ACTION: Council to convene public meeting.

SUMMARY: The Gulf of Mexico Fishery Management Council will convene a joint meeting of the Standing and Special Reef Fish Scientific and Statistical Committees.

DATES: The meeting will convene at 9 a.m. on Tuesday, March 23, 2010 and conclude by 3 p.m. on Wednesday, March 24, 2010.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: On the first day of the meeting, the Standing Scientific and Statistical Committees will meet to complete the development of a set of control rules being developed to set acceptable biological catch for data adequate and data-poor stocks and stock assemblages. The Scientific and Statistical Committees may also select a set of stocks or stock assemblages to use as case studies for applying the control rules. The Scientific and Statistical Committees will also discuss what scientific advice it can give to the Council in deciding whether and where to set a minimum stock threshold below which harvest would be prohibited.

On the second day of the meeting, the Standing and Special Reef Fish Scientific and Statistical Committees will meet jointly to review the SEDAR 19 black grouper stock assessment and to recommend a level of acceptable biological catch. The Scientific and Statistical Committees will also review a request from the Council to provide advice on the best approach to collect fishery independent data that can be used in the next red snapper assessments.

Copies of the agenda and other related materials can be obtained by calling (813) 348-1630 or can be downloaded from the Council's ftp site, ftp.gulfcouncil.org. To get directly to the folder containing the meeting materials, click on Standing and Reef Fish SSC meeting - March 2010.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Tina O'Hern at the Council (see ADDRESSES) at least 5 working days prior to the meeting.

Dated: March 4, 2010.
William D. Chappell,
Acting Director, Office of Sustainable Fisheries, National Marine Fisheries Service.

[FR Doc. 2010-4971 Filed 3-8-10; 8:45 am]

BILLING CODE 3510-22-S